DEPARTMENT OF THE INTERIOR

National Park Service

[NPS-WASO-NRNHL-DTS#-35752; PPWOCRADI0, PCU00RP14.R50000]

National Register of Historic Places; Notification of Pending Nominations and Related Actions

AGENCY: National Park Service, Interior.

ACTION: Notice.

SUMMARY: The National Park Service is soliciting electronic comments on the significance of properties nominated before April 22, 2023, for listing or related actions in the National Register of Historic Places.

DATES: Comments should be submitted electronically by May 19, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before April 22, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

DISTRICT OF COLUMBIA

District of Columbia

National Geographic Society Headquarters, 1156 16th St. NW and 1145 17th St. NW, Washington, SG100009025

ILLINOIS

Will County

Will County Courthouse, 14 West Jefferson St., Joliet, SG100009005

INDIANA

Clark County

Clark-McKinley Historic District, (Residential Planning and Development in Indiana, 1940-1973 MPS), Roughly the east side of North Clark Blvd. and the west side of McKinley Ave. between, Francis and Brooks Aves., Clarksville, MP100009012

Patterson Place Historic District, (Historic Residential Suburbs in the United States, 1830-1960 MPS), Roughly bounded by Clark Blvd., Harrison, Sunset, Howard, and Stansifer Aves. Including each side of Patterson Ave., Clarksville, MP100009013

Delaware County

Forest Park Elementary School, (Indiana's Public Common and High Schools MPS), 2517 West 8th St., Muncie, MP100009020

Marion County

Engine House No. 23, 1002 Udell St., Indianapolis, SG100009019

Monroe County

Stipp-Bender Farm, 5075 South Victor Pike, Clear Creek vicinity, SG100009014

Shelby County

Clover Ford Iron Bridge, Blue River Memorial Park, 725 Lee Blvd., Shelbyville, SG100009015

MISSISSIPPI

Hinds County

Reddix, Dr. Jacob L., House, 1136 Valley St., Jackson, SG100009008

Stamp's Super Burgers, 1801 Dalton St., Jackson, SG100009009

Jones County

Lamar Elementary School, 400 15th St. West, Laurel, SG100009007

Sharkey County

Tucker House, 12862 US 61, Cary, SG100009021

OHIO

Lucas County

DeVilbiss Manufacturing Building, 300 Phillips Ave., Toledo, SG100009023

Muskingum County

Baker Brothers Wholesale Grocery, 8-12 East Main St., Zanesville, SG100009004

TEXAS

Bexar County

Dubuis Hall, 4301 Broadway St., San Antonio, SG100009010

VIRGINIA

Nottoway County

Crewe Commercial Historic District, Carolina and Virginia Aves., Carter, Powell, and Tyler Sts., Crewe, SG100009026

A request for removal has been made for the following resources:

INDIANA

Hamilton County

Carmel Monon Depot, 211 1st St. SW, Carmel, OT13000420

Newton County

McCairn-Turner House, 124 West Jasper St., Goodland, OT94000232

Wabash County

Manchester College Historic District, 604 College Ave., North Manchester, OT90001929

Authority: Section 60.13 of 36 CFR part 60.

Dated: April 26, 2023.
Sherry A. Frear,
Chief, National Register of Historic Places/National Historic Landmarks Program.

[FR Doc. 2023-09419 Filed 5-3-23; 8:45 am]

BILLING CODE 4312-52-P